Memorandum of March 5, 2004

Delegation of Certain Reporting Authority

Memorandum for the Administrator of the National Aeronautics and Space Administration

By the authority vested in me as President by the Constitution and the laws of the United States, including section 301 of title 3, United States Code, I hereby delegate to you the functions conferred upon the President by section 206 of the National Aeronautics and Space Act of 1958, as amended (42 U.S.C. 2476), to provide the specified report to the Congress. Nothing in this delegation shall be construed to impair or otherwise affect the authority of the Director of the Office of Management and Budget with respect to budget, administrative, and legislative proposals.

You are authorized and directed to publish this memorandum in the Federal Register.

B

THE WHITE HOUSE,

Washington, March 5, 2004.

[FR Doc. 04-5580

Filed 3-9-04; 8:45 am]

Billing code 7510-01-M